INTERNATIONAL TRADE COMMISSION

[Investigation No. 731-TA-990 (Second Review)]

Non-Malleable Cast Iron Pipe Fittings From China

Determination

On the basis of the record ¹ developed in the subject five-year review, the United States International Trade Commission (Commission) determines, pursuant to section 751(c) of the Tariff Act of 1930 (“the Act”) (19 U.S.C. 1675(c)), that revocation of the antidumping duty order on non-malleable cast iron pipe fittings from China would be likely to lead to continuation or recurrence of material injury to an industry in the United States within a reasonably foreseeable time.

¹ The record is defined in sec. 207.2(f) of the Commission's Rules of Practice and Procedure (19 CFR 207.2(f)).

Background

The Commission instituted this review on July 1, 2013 (78 FR 39321) and determined on October 21, 2013, that it would conduct an expedited review (78 FR 68474, November 14, 2013).

The Commission completed and filed its determination in this review on January 29, 2014. The views of the Commission are contained in USITC Publication 4450 (January 2014), entitled Non-Malleable Cast Iron Pipe Fittings from China: Investigation No.731-TA-990 (Second Review).

By order of the Commission.
Issued: January 30, 2014.
Lisa R. Barton,
Acting Secretary to the Commission.

[FR Doc. 2014-02367 Filed 2-4-14; 8:45 am]

BILLING CODE 7020-02-P